DEPARTMENT OF HEALTH AND HUMAN SERVICES

Office of the Secretary

Findings of Research Misconduct; Correction

AGENCY: Office of the Secretary, HHS.

ACTION: Correction of notice.

SUMMARY: This document corrects an error that appeared in the notice published in the October 29, 2015, Federal Register entitled “Findings of Research Misconduct.”

DATES: Effective Date: November 9, 2015.

Applicability Date: The correction notice is applicable for the Findings of Research Misconduct notice published on October 29, 2015.

FOR FURTHER INFORMATION CONTACT: Ms. Karen Gorirossi at 240-453-8800.

SUPPLEMENTARY INFORMATION:

I. Background

In FR Doc. 2015-27587 of October 29, 2015 (80 FR 66546), there was a sentence inadvertently omitted from the text of the notice. The error is identified and corrected in the Correction of Errors section below.

II. Correction of Errors

In FR Doc. 2015-27587 of October 29, 2015 (80 FR 66546), make the following correction:

1. On page 66546, second column, in FR Doc. 2015-27587, last paragraph, line 13, after “otherwise working with PHS,” add “Respondent neither admits nor denies ORI's findings of research misconduct; the settlement is not an admission of liability on the part of the Respondent” so that the corrected section of the last paragraph in the second column reads:

“Respondent stated that she is not currently involved in U.S. Public Health Service (PHS)-supported research and has no intention of applying for or engaging in PHS-supported research or otherwise working with PHS. Respondent neither admits nor denies ORI's findings of research misconduct; the settlement is not an admission of liability on the part of the Respondent.”

Dated: October 30, 2015.
Donald Wright,
Acting Director, Office of Research Integrity.

[FR Doc. 2015-28440 Filed 11-6-15; 8:45 am]

BILLING CODE 4150-31-P